DEPARTMENT OF THE INTERIOR

Bureau of Indian Affairs

[190A2100DD/AAKC001030/A0A501010.999900 253G]

Johnson-O'Malley Program; Preliminary Report

AGENCY: Bureau of Indian Affairs, Interior.

ACTION: Notice of comment period.

SUMMARY: As required by the Johnson-O'Malley (JOM) Act of 1934, as amended by the JOM Supplemental Indian Education Program Modernization Act, the Bureau of Indian Education (BIE) is publishing a Preliminary Report that describes the number of eligible Indian students served or potentially served by each eligible entity, using the most applicable and accurate data from the fiscal year proceeding the fiscal year for which the initial determination is to be made. BIE is also seeking written comments from eligible entities to gain feedback about the preliminary report.

DATES: Comments must be received on or before December 30, 2019.

ADDRESSES: Send comments by email to JOMcomments@bie.edu or by mail to Bureau of Indian Education, ATTN: JOM Comments, C/O Maureen Lesky, Program Manager, 1011 Indian School Road NW, Suite 332, Albuquerque, NM 87104.

FOR FURTHER INFORMATION CONTACT: Ms. Angela Barnett, JOM Program Specialist, Bureau of Indian Education, telephone: (405) 605-6051, email: JOMcomments@bie.edu.

SUPPLEMENTARY INFORMATION: The JOM Act of 1934 was passed to subsidize education, medical services, and other social services provided to Indians living within the borders of States and territories. Today, JOM funding is used to support programs designed to meet the specialized and unique educational and cultural needs of eligible Indian students, including programs that supplement existing school programming operational supports.

The JOM Supplemental Indian Education Program Modernization Act of 2018, Public Law 115-404, directs the Secretary of the Interior (Secretary) to publish a preliminary report describing the number of eligible Indian students served or potentially served by each eligible entity, using the most applicable and accurate data from the fiscal year proceeding the fiscal year for which the initial determination is to be made from the:

1. Bureau of the Census;

2. National Center for Education Statistics; or

3. Office of Indian Education of the Department of Education.

The preliminary report and additional information are at the BIE JOM web page at: https://www.bie.edu/JOM/. The BIE seeks feedback about the preliminary report from eligible entities. BIE will then consider the feedback in preparing the final report.

Before including your address, phone number, email address, or other personal identifying information in your comment, you should be aware that your entire comment—including your personal identifying information—may be made publicly available at any time. While you can ask us in your comment to withhold your personal identifying information from public review, we cannot guarantee that we will be able to do so.

Dated: September 26, 2019.
Tara Sweeney,
Assistant Secretary—Indian Affairs.

[FR Doc. 2019-23617 Filed 10-28-19; 8:45 am]

BILLING CODE 4337-15-P